EQUAL EMPLOYMENT OPPORTUNITY COMMISSION

Senior Executive Service Performance Review Board Membership

AGENCY: Equal Employment Opportunity Commission.

ACTION: Notice.

SUMMARY: Notice is hereby given of the appointment of members to the Performance Review Board of the Equal Employment Opportunity Commission.

FOR FURTHER INFORMATION CONTACT: Lisa M. Williams, Chief Human Capital Officer, U.S. Equal Employment Opportunity Commission, 131 M Street, NE., Washington, DC 20507, (202) 663-4306.

SUPPLEMENTARY INFORMATION: Publication of the Performance Review Board (PRB) membership is required by 5 U.S.C. 4314(c)(4). The PRB reviews and evaluates the initial appraisal of a senior executive's performance by the supervisor, and makes written recommendations to the Acting Chairman of EEOC regarding performance ratings, performance awards, and pay-for-performance pay adjustments. The Board shall consist of at least three voting members. In the case of an appraisal of a career appointee, more than half of the members shall consist of career appointees, pursuant to 5 U.S.C. 4314(c)(5). The following individuals have been designated to serve on the Commission's Performance Review Board:

Primary Members: Lisa M. Williams, Chief Human Capital Officer, (Chair); Deidre M. Flippen, Director, Office of Research, Information and Planning; Danny G. Harter, Director, Indianapolis District Office; John Clarke Hendrickson, Senior Litigation Project Manager (Regional Attorney), Chicago District Office; Cynthia G. Pierre, PhD, Enforcement Director, U.S. Department of Education, Office of Civil Rights; Jocelyn Samuels, Senior Counselor to the Assistant Attorney General, Department of Justice, Civil Rights Division; and Thomas J. Schlageter, Director, Advice and External Litigation Division, Office of Legal Counsel.

Alternate: Mary Jo O'Neill, Regional Attorney, Phoenix District Office.

DATES: Membership is effective on the date of this notice.

Signed at Washington, DC on this 6th day of November 2009.
For the Commission.
Stuart J. Ishimaru,
Acting Chairman.

[FR Doc. E9-27329 Filed 11-12-09; 8:45 am]

BILLING CODE 6570-01-P